DEPARTMENT OF COMMERCE

National Oceanic and Atmospheric Administration

Return Link Service Authorization in the United States Search and Rescue Region

AGENCY: National Environmental Satellite, Data, and Information Service (NESDIS), National Oceanic and Atmospheric Administration (NOAA), Commerce.

ACTION: Notice.

SUMMARY: The U.S. Search and Rescue Satellite Aided Tracking (US SARSAT) Program, which is managed by NOAA and assisted by the National Aeronautics and Space Administration, the U.S. Air Force, and the U.S. Coast Guard, is announcing the authorization of the coding and use of Return Link Service equipped 406 MHz Satellite Personal Locator Beacons (PLBs) and 406 MHz Satellite Emergency Position Indicating Radio Beacons (EPIRBs) within the United States Search and Rescue Region.

FOR FURTHER INFORMATION CONTACT: SARSAT Program Analyst, Mr. Allan Knox, NOAA, allan.knox@noaa.gov, 301-817-4144.

Background: The US SARSAT Program requested input from all interested persons on the U.S. authorization of Return Link Service (RLS) acknowledgment Type 1 capable Cospas-Sarsat 406 MHz distress beacons. Specifically, through Request for Information (RFI) notices published in the Federal Register on February 8, 2021 (86 FR 8598) and March 17, 2021 (86 FR 14595), the SARSAT Program sought the public's views on the inclusion of this optional RLS feature on U.S. country-coded beacons. The US SARSAT Program received 3 responses from the public to the RFI notices. Based on consideration of these responses, the addressing of several requirements requested by the U.S. Coast Guard and U.S. Air Force, and the update of the Standards for 406 MHz Satellite Personal Locator Beacons (PLBs) and 406 MHz Satellite Emergency Position Indicating Radio Beacons (EPIRBs), the US SARSAT Program is authorizing the coding and use of Return Link Service equipped PLBs and EPIRBS beacons within the United States Search and Rescue Region. These RLS enabled beacons will be legal for sale and use upon the publishing of Radio Technical Commission for Maritime services 11010.4 Standard for 406 MHz Satellite Personal Locator Beacons (PLBs). Due to the nature of their installation, RLS is currently not authorized for use in aviation Emergency Locator Transmitters.

Authority: 33 U.S.C. 883(d) and (e).

Dated: February 25, 2022.
Mark W. Turner,
SARSAT Program Manager.

[FR Doc. 2022-04369 Filed 3-1-22; 8:45 am]

BILLING CODE 3510-HR-P